DEPARTMENT OF COMMERCE

National Oceanic and Atmospheric Administration

RIN 0648-XB463

Endangered Species; File No. 24387

AGENCY: National Marine Fisheries Service (NMFS), National Oceanic and Atmospheric Administration (NOAA), Commerce.

ACTION: Notice; receipt of application.

SUMMARY: Notice is hereby given that the NMFS NEFSC (Responsible Party: Jon Hare, Ph.D.), 166 Water Street, Woods Hole, MA 02543-1026, has applied in due form for a permit to take Atlantic sturgeon (Acipenser oxyrinchus oxyrinchus), loggerhead (Caretta caretta), Kemp's ridley (Lepidochelys kempii), green (Chelonia mydas), hawksbill (Eretmochelys imbricata), and leatherback (Dermochelys coriacea) sea turtles for purposes of scientific research.

DATES: Written or email comments must be received on or before October 29, 2021.

ADDRESSES: The applications and related documents are available for review by selecting “Records Open for Public Comment” from the “Features” box on the Applications and Permits for Protected Species (APPS) home page, https://apps.nmfs.noaa.gov, and then selecting the appropriate File No. 24387 from the list of available applications. These documents are also available upon written request via email to NMFS.Pr1Comments@noaa.gov.

Written comments on this application should be submitted via email to NMFS.Pr1Comments@noaa.gov. Please include File No. 24387 in the subject line of the email comment.

Those individuals requesting a public hearing should submit a written request to the Chief, Permits and Conservation Division at the address listed above. The request should set forth the specific reasons why a hearing on this application would be appropriate.

FOR FURTHER INFORMATION CONTACT: Malcolm Mohead or Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The above applicant requests a 5-year permit to conduct research on endangered and threatened sea turtles and Atlantic sturgeon in the U.S. Atlantic Exclusive Economic Zone from Massachusetts to Georgia, evaluating bycatch reduction of commercial fishing gear to mitigate sea turtle and sturgeon interactions in fisheries. Gear evaluated would be control and experimental tangle nets and trawl modifications. Once animals are captured and on the vessel, researchers would be authorized to handle and sample Atlantic sturgeon and sea turtles to measure, flipper tag (turtles), passive integrated transponder (PIT) tag, tissue (genetic) sample, photograph/video, and weigh before release. In addition to directed captures, animals that are legally captured in commercial fisheries would also be studied, conducting the same methods as listed above. Up to six sea turtles (all species combined) and 12 Atlantic sturgeon could be killed or seriously harmed due to capture over the life of the permit.

Dated: September 24, 2021.
Amy Sloan,
Acting Chief, Permits and Conservation Division, Office of Protected Resources, National Marine Fisheries Service.

[FR Doc. 2021-21183 Filed 9-28-21; 8:45 am]

BILLING CODE 3510-22-P